DEPARTMENT OF DEFENSE

Defense Intelligence Agency

Privacy Act of 1974; System of Records

AGENCY: DoD; Defense Intelligence Agency.

ACTION: Notice to Delete Two Systems of Records.

SUMMARY: The Office of the Secretary of Defense is deleting two system of records notices from its existing inventory of records systems subject to the Privacy Act of 1974, (5 U.S.C. 552a), as amended.

DATES: This proposed action will be effective without further notice on April 7, 2008 unless comments are received which result in a contrary determination.

ADDRESSES: Send comments to the Defense Intelligence Agency, Privacy Act Compliance Officer, DAN 1C, 200 McDill Blvd, Washington DC 20340

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the address above.

The Defense Intelligence Agency proposes to delete two system of records notices from its inventory of record systems subject to the Privacy Act of 1974 (5 U.S.C. 552a), as amended. The proposed deletion is not within the purview of subsection (r) of the Privacy Act of 1974, (5 U.S.C. 552a), as amended, which requires the submission of a new or altered system report.

Dated: February 28, 2008.
L.M. Bynum,
Alternate OSD Federal Register Liaison Officer, Department of Defense.

LDIA 0480

System Name:

Reserve Training Records (February 22, 1993, 58 FR 10613).

Reason:

The records contained in this system of records have been migrated into Human Resources Management System (HRMS); another approved DIA SORN (LDIA 05-0001). Records of personnel no longer in the system have been turned over to the NARA.

LDIA 0275

System Name:

DoD Hotline Referrals (February 22, 1993, 58 FR 10613).

Reason:

The records contained in this system of records have been migrated into LDIA 0271, Investigations and Complaints (July 19, 2006, 71 FR 41006).

[FR Doc. E8-4364 Filed 3-5-08; 8:45 am]

BILLING CODE 5001-06-P